DEPARTMENT OF TRANSPORTATION

Federal Aviation Administration

14 CFR Part 39

[Docket No. FAA-2013-0464; Directorate Identifier 2012-NM-010-AD]

RIN 2120-AA64

Airworthiness Directives; Dassault Aviation Airplanes

AGENCY: Federal Aviation Administration (FAA), DOT.

ACTION: Notice of proposed rulemaking (NPRM).

SUMMARY: We propose to supersede an existing airworthiness directive (AD) that applies to all Dassault Aviation Model FALCON 7X airplanes. The existing AD currently requires adding an automatic reversion logic and a means for the pilot to override pitch trim control normal modes, and installing placards in the cockpit; replacing the frame of the emergency switch box; replacing certain horizontal stabilizer electronic control units (HSECU); operating the airplane according to the limitations and procedures in the airplane flight manual (AFM); revising the Limitations section of the AFM; and revising the maintenance program to incorporate a certain maintenance planning document (MPD) task. Since we issued that AD, Dassault Aviation has developed a modification of the fly-by-wire (FBW) standard; changed the AFM to incorporate changes resulting from the FBW modification; and revised the airplane maintenance manual (AMM) to incorporate repetitive operational tests of the electric motors reversion relays and trim emergency command of the horizontal stabilizer trim system (HSTS). Once incorporated, these actions allow restoration of the originally certified minimum equipment list items. This proposed AD would retain certain requirements of the previous AD; would require modifying the FBW standard; operating the airplane according to the limitations and procedures in an approved AFM; and operational testing of the electric motors reversion relays and trim emergency command of the HSTS, and repairs if necessary. We are proposing this AD to prevent an uncontrolled pitch trim runaway, which could result in loss of control of the airplane.

DATES: We must receive comments on this proposed AD by August 19, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Dassault Falcon Jet, P.O. Box 2000, South Hackensack, New Jersey 07606; telephone 201-440-6700; Internet http://www.dassaultfalcon.com.

You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, WA 98057-3356; telephone (425) 227-1137; fax (425) 227-1149.

SUPPLEMENTARY INFORMATION:

Comments Invited

We invite you to send any written relevant data, views, or arguments about this proposed AD. Send your comments to an address listed under the ADDRESSES section. Include “Docket No. FAA-2013-0464; Directorate Identifier 2012-NM-010-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On July 15, 2011, we issued AD 2011-16-01, Amendment 39-16759 (76 FR 47424, August 5, 2011). That AD requires actions intended to address an unsafe condition on all Dassault Aviation Model FALCON 7X airplanes.

Since we issued AD 2011-16-01, Amendment 39-16759 (76 FR 47424, August 5, 2011), the European Aviation Safety Agency (EASA), which is the Technical Agent for the Member States of the European Community, has issued EASA Airworthiness Directive 2011-0241, dated December 19, 2011 (referred to after this as “the MCAI”), to correct an unsafe condition for the specified products. The MCAI states:

In May 2011, a Dassault Aviation Falcon 7X aeroplane experienced an uncontrolled pitch trim runaway during descent. The crew succeeded in recovering a stable situation and performed an uneventful landing.

The results of the investigations showed that there was a production defect in the Horizontal Stabilizer Electronic Control Unit (HSECU) which could have contributed to the cause of the event.

This condition, if not corrected, could lead to a loss of control of the aeroplane.

To address this unsafe condition, EASA issued emergency AD 2011-0102-E which prohibited further flights. Following further technical investigations accomplished by Dassault Aviation, EASA issued AD 2011-0114, currently at revision 2, which superseded EASA AD 2011-0102-E. Following accomplishment of all the actions as required by EASA AD 2011-0114R2, all aeroplanes could resume flying with operational limitations.

Since EASA AD 2011-0114R2 was issued, Dassault Aviation have developed a modification (M1245 to be embodied through accomplishment of Dassault Aviation Service Bulletin F7X-214) of the Fly-By-Wire (FBW) current standard which improves the monitoring and reversion logic of the Horizontal Stabilizer Trim System (HSTS). This modification results in earlier failure detection and quicker reversion.

Dassault Aviation have issued as well Revision 13 of the Aircraft Flight Manual (AFM) which incorporates the changes introduced in EASA AD 2011-0114R2 (CP55 and 56) as well as the new changes resulting from Dassault Aviation M1245 (CP58).

Dassault Aviation have introduced as well operational tests of the HSTS electric motors reversion relays and of the HSTS trim emergency command into the Chapter 5.40 of F7X Aircraft Maintenance Manual (CP010).

For the reasons described above, EASA issued AD 2011-0169 to require:

1. accomplishing Dassault Aviation modification M1245,

2. amending the AFM, and

3. implementing the operational tests of the HSTS electric motors reversion relays and of the HSTS trim emergency command.

Accomplishment of all the above actions restored the full original certified flight envelope of the aeroplane.

Since EASA AD 2011-0169 was issued, further analyses have demonstrated that, once Dassault Aviation modification M1245 is embodied, it is allowed to restore the originally certified Minimum Equipment List (MEL) items which were removed in accordance with the requirement of paragraph (4) of EASA AD 2011-0114R2.

For the reasons described above, this [EASA] AD, which supersedes EASA AD 2011-0169, retaining its requirements, in addition, extends the applicability of the AD to all S/Ns and, for aeroplanes fitted with FBW standard 2.1.7.3, allows the MEL limitations imposed by EASA AD 2011-0114R2 to be removed.

You may obtain further information by examining the MCAI in the AD docket.

Relevant Service Information

Dassault has issued the following service information.

• Dassault Mandatory Service Bulletin 7X-214, including New Standard Installation Checklist, dated August 30, 2011.

• Dassault Mandatory Service Bulletin 7X-214, Revision Erratum, dated January 26, 2012.

• Dassault Falcon 7X AFM, Revision 13, dated August 29, 2011.

• FCS Data Loading Procedure, Reference DT EQUIP 43913, Issue D, dated May 28, 2010.

• Chapter 5-40-00, Airworthiness Limitations, of the Falcon 7X Maintenance Manual DGT 107838, Revision 2, dated August 25, 2011. The actions described in this service information are intended to correct the unsafe condition identified in the MCAI.

Explanation of Changes Made to This NPRM

We have revised the heading and wording for paragraph (h) of this proposed AD; this change does not affect the intent of that paragraph.

We have deleted note 2 to paragraph (l) of AD 2011-16-01, Amendment 39-16759 (76 FR 47424, August 5, 2011). Instead, we have included that information in paragraph (l)(2) of this proposed AD.

We have deleted note 3 of AD 2011-16-01, Amendment 39-16759 (76 FR 47424, August 5, 2011). Instead, we have included that information in paragraph (n) of this proposed AD.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to the procedures specified in paragraph (s) of this proposed AD. The request should include a description of changes to the required inspections that will ensure the continued operational safety of the airplane.

Costs of Compliance

Based on the service information, we estimate that this proposed AD would affect about 30 products of U.S. registry.

The actions that are required by AD 2011-16-01, Amendment 39-16759 (76 FR 47424, August 5, 2011), and retained in this proposed AD take about 340 work-hours per product, at an average labor rate of $85 per work hour. Where the service information lists required parts costs that are covered under warranty, we have assumed that there will be no charge for these parts. As we do not control warranty coverage for affected parties, some parties may incur costs higher than estimated here. Based on these figures, the estimated cost of the currently required actions is $28,900 product.

We estimate that it would take about 11 work-hours per product to comply with the new basic requirements of this proposed AD. The average labor rate is $85 per work-hour. Where the service information lists required parts costs that are covered under warranty, we have assumed that there will be no charge for these parts. As we do not control warranty coverage for affected parties, some parties may incur costs higher than estimated here. Based on these figures, we estimate the cost of the proposed AD on U.S. operators to be $28,050, or $935 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2011-16-01, Amendment 39-16759 (76 FR 47424, August 5, 2011), and adding the following new AD:

Dassault Aviation: Docket No. FAA-2013-0464; Directorate Identifier 2012-NM-010-AD.

(a) Comments Due Date

We must receive comments by August 19, 2013.

(b) Affected ADs

This AD supersedes AD 2011-16-01, Amendment 39-16759 (76 FR 47424, August 5, 2011).

(c) Applicability

This AD applies to all Dassault Aviation Model FALCON 7X airplanes, certificated in any category, all serial numbers.

(d) Subject

Air Transport Association (ATA) of America Code 27, Flight controls.

(e) Reason

This AD was prompted by an uncontrolled pitch trim runaway during descent. We are issuing this AD to prevent an uncontrolled pitch trim runaway, which could result in loss of control of the airplane.

(f) Compliance

You are responsible for having the actions required by this AD performed within the compliance times specified, unless the actions have already been done.

(g) Retained Modification

This paragraph restates the requirements of paragraph (g) of AD 2011-16-01, Amendment 39-16759 (76 FR47424, August 5, 2011). Before further flight, do the applicable actions specified in paragraphs (g)(1), (g)(2), and (g)(3) of this AD.

(1) For airplanes on which Dassault Mandatory Service Bulletin 7X-211, Revision 1, dated June 14, 2011, has not been done as of August 22, 2011 (the effective date of AD 2011-16-01, Amendment 39-16759 (76 FR 47424, August 5, 2011)): Modify the airplane by adding an automatic reversion logic and a means for the pilot to override pitch trim control normal modes, and install placards in the cockpit in full view of the pilots, in accordance with paragraph 2., “Accomplishment Instructions for Aircraft which have not Already Implemented the Revision 1 of the Service Bulletin,” of Dassault Mandatory Service Bulletin 7X-211, Revision 2, including New Standard Installation Checklist and Appendix A, dated June 22, 2011, including FCS Data Loading Procedure, Issue D, dated May 28, 2010.

(2) For airplanes on which Dassault Mandatory Service Bulletin 7X-211, Revision 1, dated June 14, 2011, has been done as of August 22, 2011 (the effective date of AD 2011-16-01, Amendment 39-16759 (76 FR 47424, August 5, 2011)): Replace the frame of the emergency switch box, in accordance with paragraph 3., “Accomplishment Instructions for Aircraft which have Already Implemented Revision 1 of this Service Bulletin,” of Dassault Mandatory Service Bulletin 7X-211, Revision 2, including New Standard Installation Checklist and Appendix A, dated June 22, 2011, including FCS Data Loading Procedure, Issue D, dated May 28, 2010.

(3) For airplanes equipped with any horizontal stabilizer electronic control unit (HSECU) P/N 051244-04, replace the HSECU with any HSECU identified in paragraph (g)(3)(i), (g)(3)(ii), or (g)(3)(iii) of this AD, in accordance with the Accomplishment Instructions of Dassault Mandatory Service Bulletin 7X-212, Revision 2, dated July 7, 2011.

(i) HSECU P/N 051244-02.

(ii) Verified HSECU P/N 051244-04 having a stamped “V.”

(iii) HSECU P/N 051244-05.

(h) Retained Credit for Previous Actions

This paragraph restates the provisions specified in paragraph (h) of AD 2011-16-01, Amendment 39-16759 (76 FR 47424, August 5, 2011). This paragraph provides credit for the HSECU replacement required by paragraph (g)(3)(i) or (g)(3)(ii) of this AD, if those replacements were performed before August 22, 2011 (the effective date of AD 2011-16-01), using Dassault Mandatory Service Bulletin 7X-212, Revision 1, dated June 23, 2011, which is not incorporated by reference in this AD.

(i) Retained Revision of Airplane Flight Manual (AFM)

This paragraph restates the requirements of paragraph (i) of AD 2011-16-01, Amendment 39-16759 (76 FR 47424, August 5, 2011). As of August 22, 2011 (the effective date AD 2011-16-01), operate the airplane according to the limitations and procedures in the Dassault Falcon 7X AFM, Revision 12, dated June 16, 2011, until the actions required by paragraph (p) of this AD are accomplished. Revision 12 introduces revised operational speed limitations and revised procedures accounting for the new TRIM EMERG button.

(j) Retained Electronic Checklist Database Installation

This paragraph restates the requirements of paragraph (j) of AD 2011-16-01, Amendment 39-16759 (76 FR 47424, August 5, 2011). Before further flight, install the electronic checklist V0007 database, in accordance with the Accomplishment Instructions of Dassault Service Bulletin 7X-213, dated June 22, 2011. Accomplishment of the actions required in paragraph (o) of this AD terminates the actions required by paragraph (j) of this AD.

(k) Retained Operating Restrictions

This paragraph restates the requirements of paragraph (k) of AD 2011-16-01, Amendment 39-16759 (76 FR 47424, August 5, 2011). Before further flight, revise the Limitations section of the Dassault Falcon 7X AFM to include the information provided in Figure 1 to paragraph (k) of this AD. This may be accomplished by inserting a copy of Figure 1 to paragraph (k) of this AD into the AFM. Accomplishment of the actions required in paragraph (p) of this AD terminates the actions required by paragraph (k) of this AD.

Figure 1 to Paragraph (k) of This AD

Dispatch with any inoperative equipment identified below is prohibited. This prohibition takes precedence over the FAA master minimum equipment list (MMEL) or any operator's MEL.

Air data systems (identified as MEL item 34-9)

Multi functional probe (MFP) heating system (identified as MMEL item 30-1)

ACMU3 and ACMU4 (identified as MMEL item 27-3)

LH REAR POWER #3 (identified as MMEL item 27-5-(-6)

Back-up mode (identified as MMEL item 27-8)

(l) Retained Maintenance Program Revision

This paragraph restates the requirements of paragraph (l) of AD 2011-16-01, Amendment 39-16759 (76 FR 47424, August 5, 2011).

(1) Within 30 days after August 22, 2011 (the effective date of AD 2011-16-01, Amendment 39-16759 (76 FR 47424, August 5, 2011)), revise the maintenance program to incorporate Maintenance Planning Document (MPD) Task 27-40-00-710-801, as specified in Dassault Aviation, Falcon 7X Maintenance Manual (MM), Falcon 7X—Chapter 5-40-00 after Rev 01, dated June 10, 2011 (commonly referred to as Dassault Change Proposal (CP) CP009 to Chapter 5-40-00 of Dassault Falcon 7X MM). The initial compliance time for doing the operational test of the HSTS electric motors reversion relays is 1,850 flight hours after accomplishment of the applicable actions required by paragraph (g) of this AD. Accomplishment of the actions required in paragraph (q) of this AD terminates the actions required by paragraph (l) of this AD.

(2) The MM revision required by paragraph (l) of this AD may be done by inserting a copy of Dassault CP CP009, dated June 10, 2011, to Chapter 5-40-00 of Dassault Falcon 7X MM into the MM. When Dassault CP CP009 has been included in general revisions of the MM, the general revisions may be inserted into the MM, provided the relevant information in the general revision is identical to that in Dassault CP CP009, and Dassault CP CP009 may be removed.

(m) Retained Limitations for Alternative Procedures or Intervals

This paragraph restates the requirements of paragraph (m) of AD 2011-16-01, Amendment 39-16759 (76 FR47424, August 5, 2011). After the maintenance program has been revised as required by paragraph (l) of this AD, no alternative procedure or interval for the operational test may be used unless the procedure and/or interval is approved as an alternative method of compliance (AMOC) in accordance with the procedures specified in paragraph (s) of this AD.

(n) Retained FAA AD Differences

This paragraph restates the AD differences identified by Note 3 of AD 2011-16-01, Amendment 39-16759 (76 FR 47424, August 5, 2011). This AD differs from the mandatory continuing airworthiness information (MCAI) and/or service information as follows:

(1) European Aviation Safety Agency (EASA) AD 2011-0114R2 requires repetitive operational tests of the HSTS electric motors reversion relays, and specifies that the aircraft maintenance program may be revised in lieu of those repetitive tests. This FAA AD mandates revising the maintenance program.

(2) EASA AD 2011-0114R2 does not include any requirement to revise the electronic checklist. Paragraph (j) of this FAA AD requires this action.

(3) EASA AD 2011-0114R2 mandates amending the minimum equipment list (MEL) by removing certain items. This FAA AD instead requires revising the AFM to prohibit dispatch with those items inoperative. The operational effect, however, is the same.

(o) New Fly-By-Wire System Modification

Within 12 months after accomplishing the actions required by paragraph (g) of this AD or within 9 months after the effective date of this AD, whichever is later: Modify the fly-by-wire system installed in the airplane to the 2.1.7.3 standard, in accordance with the Accomplishment Instructions of Dassault Mandatory Service Bulletin 7X-214, dated August 30, 2011, as revised by Dassault Mandatory Service Bulletin 7X-214, Revision Erratum, dated January 26, 2012. Accomplishment of the actions required in paragraph (o) of this AD terminates the actions required by paragraph (j) of this AD.

(p) New AFM Revision

After accomplishing the actions required by paragraph (o) of this AD: Operate the airplane thereafter according to the limitations and procedures specified in Dassault Falcon 7X AFM, Revision 13, dated August 29, 2011. Accomplishment of the actions required by this paragraph terminates the requirements of paragraphs (i) and (k) of this AD; thereafter, the AFM limitation required by paragraph (k) of this AD may be removed from the AFM.

(q) New Maintenance Program Revision

Within 30 days after the effective date of this AD: Revise the maintenance program to incorporate Chapter 5-40-00, Airworthiness Limitations, of the Dassault Falcon 7X MM DGT 107838, Revision 2, dated August 25, 2011, into the MM.

(1) The initial compliance time for the operational test of the HSTS trim emergency command is within 650 flight hours after the modification required by paragraph (o) of this AD.

(2) The initial compliance time for the operational test of the HSTS electric motors reversion relays is within 5,050 flight hours after the modification required by paragraph (o) of this AD.

(3) Accomplishment of the actions required in paragraph (q) of this AD terminates the actions required by paragraph (l) of this AD.

(r) New Limitations for Alternative Actions or Intervals

After accomplishing the revision required by paragraph (q) of this AD, no alternative actions (e.g., inspections) or intervals may be used unless the actions or intervals are approved as an AMOC in accordance with the procedures specified in paragraph (s) of this AD.

(s) Other FAA AD Provisions

The following provisions also apply to this AD:

(1) Alternative Methods of Compliance (AMOCs): The Manager, International Branch, Transport Airplane Directorate, ANM-116, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD. AMOCs approved previously in accordance with AD 2011-16-01, Amendment 39-16759 (76 FR 47424, August 5, 2011), are approved as AMOCs for the corresponding provisions of this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(t) Related Information

(1) Refer to MCAI EASA Airworthiness Directive 2011-0241, dated December 19, 2011, and the service information specified in paragraphs (t)(1)(i) though (t)(1)(ix) of this AD.

(i) Chapter 5-40-00, Airworthiness Limitations, of the Dassault Falcon 7X MM DGT 107838, Revision 2, dated August 25, 2011.

(ii) Dassault Change Proposal CP009 to Chapter 5-40- 00 of Dassault Falcon 7X Maintenance Manual), dated June 10, 2011.

(iii) Dassault Falcon 7X Airplane Flight Manual, Revision 12, dated June 16, 2011.

(iv) Dassault Falcon 7X Airplane Flight Manual, Revision 13, dated August 29, 2011.

(v) Dassault Mandatory Service Bulletin 7X-211, Revision 2, including New Standard Installation Checklist and Appendix A, dated June 22, 2011, including FCS Data Loading Procedure, Issue D, dated May 28, 2010.

(vi) Dassault Mandatory Service Bulletin 7X-212, Revision 2, dated July 7, 2011.

(vii) Dassault Mandatory Service Bulletin 7X-214, dated August 30, 2011.

(viii) Dassault Mandatory Service Bulletin 7X-214, Revision Erratum, dated January 26, 2012.

(ix) Dassault Service Bulletin 7X-213, dated June 22, 2011.

(2) For service information identified in this AD, contact Dassault Falcon Jet, P.O. Box 2000, South Hackensack, New Jersey 07606; telephone 201-440-6700; Internet http://www.dassaultfalcon.com. You may review copies of the referenced service information at the FAA, Transport Airplane Directorate, 1601 Lind Avenue SW., Renton, WA. For information on the availability of this material at the FAA, call 425-227-1221.

Issued in Renton, Washington, on June 14, 2013.
Ali Bahrami,
Manager, Transport Airplane Directorate, Aircraft Certification Service.

[FR Doc. 2013-15949 Filed 7-2-13; 8:45 am]

BILLING CODE 4910-13-P